DEPARTMENT OF TRANSPORTATION

Federal Aviation Administration

14 CFR Part 39

[Docket No. FAA-2021-0871; Project Identifier MCAI-2020-01581-A; Amendment 39-21874; AD 2021-26-15]

RIN 2120-AA64

Airworthiness Directives; Vulcanair S.p.A. Airplanes

AGENCY: Federal Aviation Administration (FAA), DOT.

ACTION: Final rule.

SUMMARY: The FAA is adopting a new airworthiness directive (AD) for certain km, Vulcanair S.p.A. Model P.68C, P.68C-TC, P.68 “OBSERVER,” P.68 OBSERVER 2, P.68R, and P.68TC OBSERVER airplanes. This AD was prompted by mandatory continuing airworthiness information (MCAI) originated by an aviation authority of another country to identify and correct an unsafe condition on an aviation product. The MCAI identifies the unsafe condition as a damaged stabilator trim control cable. This AD requires inspecting the stabilator trim control cables and replacing if necessary. This AD also requires reporting the results of each inspection to Vulcanair S.p.A. The FAA is issuing this AD to address the unsafe condition on these products.

DATES: This AD is effective February 15, 2022.

The Director of the Federal Register approved the incorporation by reference of a certain publication listed in this AD as of February 15, 2022.

ADDRESSES: For service information identified in this final rule, contact Vulcanair S.p.A., Fulvio Oloferni, via Giovanni Pascoli, 7, Naples, 80026, Italy; phone: +39 081 5918 135; email: airworthiness@vulcanair.com; website: www.vulcanair.com. You may view this service information at the FAA, Airworthiness Products Section, Operational Safety Branch, 901 Locust, Kansas City, MO 64106. For information on the availability of this material at the FAA, call (817) 222-5110. It is also available at https://www.regulations.gov by searching for and locating Docket No. FAA-2021-0871.

Examining the AD Docket

You may examine the AD docket at https://www.regulations.gov by searching for and locating Docket No. FAA-2021-0871; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Gregory Johnson, Aviation Safety Engineer, International Validation Section, FAA, 901 Locust, Room 301, Kansas City, MO 64106; phone: (720) 626-5462; email: gregory.johnson@faa.gov.

SUPPLEMENTARY INFORMATION:

Background

The FAA issued a notice of proposed rulemaking (NPRM) to amend 14 CFR part 39 by adding an AD that would apply to certain serial-numbered Vulcanair S.p.A. Model P.68C, P.68C-TC, P.68 “OBSERVER,” P.68 OBSERVER 2, P.68R, and P.68TC OBSERVER airplanes. The NPRM published in the Federal Register on October 8, 2021 (86 FR 56229). The NPRM was prompted by MCAI originated by the European Union Aviation Safety Agency (EASA), which is the Technical Agent for the Member States of the European Union. EASA issued EASA AD 2020-0262, dated November 30, 2020 (referred to after this as “the MCAI”), to correct an unsafe condition on certain serial-numbered Vulcanair S.p.A. Model P.68R, P.68C, P.68C-TC, P.68 “OBSERVER,” P.68 “OBSERVER 2,” and P.68TC “OBSERVER” airplanes. The MCAI states:

Two occurrences have been reported of finding a damaged stabilator trim control cable connected to the stabilator trim actuator assembly, mounted on fuselage frame No.16. The related technical investigation concluded that the cause of the damage is a design issue.

This condition, if not detected and corrected, could lead to failure of an affect [sic] part, preventing trim surface control (remaining in the last position), possibly resulting in reduced control of the aeroplane.

To address this potential unsafe condition, and pending a design improvement, Vulcanair published the [service bulletin] SB, to provide inspection instructions for detecting damage.

For the reasons described above, this [EASA] AD requires repetitive inspections of the affected parts, and, depending on findings, replacement.

This [EASA] AD is considered to be an interim action and further [EASA] AD action may follow.

You may examine the MCAI in the AD docket at https://www.regulations.gov by searching for and locating Docket No. FAA-2021-0871.

Discussion of Final Airworthiness Directive

Comments

The FAA received no comments on the NPRM or on the determination of the costs.

Conclusion

This product has been approved by the aviation authority of another country and is approved for operation in the United States. Pursuant to the FAA's bilateral agreement with this State of Design Authority, it has notified the FAA of the unsafe condition described in the MCAI referenced above. The FAA determined that air safety requires adopting this AD as proposed. Accordingly, the FAA is issuing this AD to address the unsafe condition on these products. This AD is adopted as proposed in the NPRM.

Related Service Information Under 1 CFR Part 51

The FAA reviewed Vulcanair S.p.A. P.68 Variants Service Bulletin No. 263, dated October 20, 2020. The service information contains procedures for repetitively inspecting each stabilator trim control cable part number 5.6067-1, 5.6161-1, 5.6171-1, 5.6231-2, or 5.6231-4 for broken wires and replacing the cable if necessary. This service information is reasonably available because the interested parties have access to it through their normal course of business or by the means identified in the ADDRESSES section.

Interim Action

The FAA considers this AD an interim action. The inspection reports required by this AD will enable the manufacturer to obtain better insight into the nature, cause, and extent of the damage, and eventually to develop final action to address the unsafe condition. Once final action has been identified, the FAA might consider further rulemaking.

Costs of Compliance

The FAA estimates that this AD affects 127 airplanes of U.S. registry.

The FAA estimates the following costs to comply with this AD:

Estimated Costs
Action | Labor cost | Parts cost | Cost per airplane | Cost on U.S. operators
Inspection | 0.50 work-hour × $85 per hour = $42.50 per inspection cycle | $0 | $42.50 per inspection cycle | $5,397.50 per inspection cycle.
Report | 1 work-hour × $85 per hour = $85 per reporting cycle | $0 | $85 per inspection cycle | $10,795 per inspection cycle.

The FAA estimates the following costs to do any replacements that would be required based on the results of the inspection. The FAA has no way of determining the number of airplanes that might need this replacement:

On-Condition Costs
Action | Labor cost | Parts cost | Cost per airplane
Replacement | 2 work-hours × $85 per hour = $170 | $340 | $510

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government. For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-26-15 Vulcanair S.p.A.: Amendment 39-21874; Docket No. FAA-2021-0871; Project Identifier MCAI-2020-01581-A.

(a) Effective Date

This airworthiness directive (AD) is effective February 15, 2022.

(b) Affected ADs

None.

(c) Applicability

This AD applies to Vulcanair S.p.A. (Vulcanair) Model P.68C, P.68C-TC, P.68 “OBSERVER,” P.68 OBSERVER 2, P.68R, and P.68TC OBSERVER airplanes, serial numbers 333, 337 to 339 inclusive, 378, 379, and 383 and larger (except serial numbers 387 and 398), certificated in any category, with a stabilator trim control cable part number 5.6067-1, 5.6161-1, 5.6171-1, 5.6231-2, or 5.6231-4 installed.

(d) Subject

Joint Aircraft System Component (JASC) Code 2740, Stabilizer Control System.

(e) Unsafe Condition

This AD was prompted by a damaged stabilator trim control cable connected to the stabilator trim actuator assembly, mounted on fuselage frame No. 16. The FAA is issuing this AD to detect and address failure of a stabilator trim control cable, which could prevent trim surface control thereby leaving the cable remaining in the last position. The unsafe condition, if not addressed, could result in reduced control of the airplane.

(f) Compliance

Comply with this AD within the compliance times specified, unless already done.

(g) Required Actions

Before a stabilator trim control cable part number 5.6067-1, 5.6161-1, 5.6171-1, 5.6231-2, or 5.6231-4 accumulates more than 400 hours time-in-service (TIS) since first installation on an airplane or within 50 hours TIS after the effective date of this AD, whichever occurs later, and thereafter at intervals not to exceed 50 hours TIS, visually inspect the stabilator trim control cable for broken wires and replace the stabilator trim control cable before further flight if there is broken wire in a strand in accordance with steps 1 through 22 of Part 2 Work Procedure in Vulcanair S.p.A. P.68 Variants Service Bulletin No. 263, dated October 20, 2020.

(h) Reporting

Within 14 days after the initial inspection required by paragraph (g) of this AD or within 14 days after the effective date of this AD, whichever occurs later, report the results of the initial inspection to Vulcanair at continued.airworthiness@vulcanaair.com or at the address in paragraph (l)(3) of this AD. Thereafter, report the inspection results within 14 days after each inspection. Each report must include the following information:

(1) Owner/operator name, mailing address, phone number, and email address;

(2) Airplane model, serial number, and registration number;

(3) Airplane hours TIS at the time of the inspection;

(4) Stabilator trim control cable hours TIS at the time of the inspection;

(5) Date of the inspection;

(6) Inspection result (positive or negative); and

(7) A description of any non-conformity (damage).

(i) Special Flight Permit

Special flight permits are prohibited.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD and email to: 9-AVS-AIR-730-AMOC@faa.gov.

(2) Before using any approved AMOC, notify your appropriate principal inspector, or lacking a principal inspector, the manager of the local flight standards district office/certificate holding district office.

(k) Related Information

(1) For more information about this AD, contact Gregory Johnson, Aviation Safety Engineer, FAA, General Aviation & Rotorcraft Section, International Validation Section, 901 Locust, Room 301, Kansas City, MO 64106; phone: (720) 626-5462; email: gregory.johnson@faa.gov.

(2) Refer to European Union Aviation Safety Agency (EASA) AD 2020-0262, dated November 30, 2020, for more information. You may examine the EASA AD in the AD docket at https://www.regulations.gov by searching for and locating Docket No. FAA-2021-0871.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) Vulcanair S.p.A. P.68 Variants Service Bulletin No. 263, dated October 20, 2020.

(ii) [Reserved]

(3) For service information identified in this AD, contact Vulcanair S.p.A., Fulvio Oloferni, via Giovanni Pascoli, 7, Naples, 80026, Italy; phone: +39 081 5918 135; email: airworthiness@vulcanair.com; website: www.vulcanair.com.

(4) You may view this service information at FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on December 10, 2021.
Lance T. Gant,
Director, Compliance & Airworthiness Division, Aircraft Certification Service.

[FR Doc. 2022-00056 Filed 1-10-22; 8:45 am]

BILLING CODE 4910-13-P